DEPARTMENT OF TRANSPORTATION

Federal Transit Administration

Fiscal Year (FY) 2023 Competitive Funding Opportunity: Transit Standards Development

AGENCY: Federal Transit Administration (FTA), Department of Transportation (DOT).

ACTION: Notice of funding opportunity (NOFO).

SUMMARY: The Federal Transit Administration (FTA) announces the opportunity to apply for up to $3,000,000 under the Technical Assistance and Workforce Development Program for proposals to develop voluntary standards and standards-related best practices, guidance, and tools in safety, and other areas that improve public transportation by directly engaging and working with transit stakeholders.

DATES: Complete proposals must be submitted electronically through the GRANTS.GOV “APPLY” function by 11:59 p.m. eastern time on January 23, 2023.

Prospective applicants should initiate the process by registering on the GRANTS.GOV website promptly to ensure completion of the application process before the submission deadline. Instructions for applying can be found on FTA's website at http://www.transit.dot.gov/howtoapply and in the “FIND” module of GRANTS.GOV. The funding opportunity ID is FTA-2023-004-TRI. Mail and fax submissions will not be accepted.

FOR FURTHER INFORMATION CONTACT: Raj Wagley, FTA Office of Research, Demonstration, and Innovation, phone: (202) 366-5386, or email: raj.wagley@dot.gov.

SUPPLEMENTARY INFORMATION:

Table of Contents

A. Program Description

B. Federal Award Information

C. Eligibility Information

D. Application and Submission Information

E. Application Review Information

F. Federal Award Administration Information

G. Federal Awarding Agency Contacts

H. Other Information

A. Program Description

Under FTA's Technical Assistance and Workforce Development Program (49 U.S.C. 5314), FTA may make grants, or enter into contracts or cooperative agreements, for the development of standards, best practices, guidance, and tools for the public transportation industry. This Notice of Funding Opportunity (NOFO) (Federal Assistance Listing: 20.531) is issued under this authority.

Transit standards are essential tools for public transportation agencies to consistently and efficiently deploy and operate their transit systems. Transit industry standards promote operating transit vehicles safely, implementing innovative mobility models consistently and efficiently, addressing rail/rail crossing safety, increasing resiliency, providing better information to travelers, ensuring data integration, supporting battery electric bus and charging systems interoperability, improving cybersecurity, implementing integrated fare payment systems, assisting in emergency response communication, improving worker safety, and enhancing performance in many other areas. Additionally, standards provide value to manufacturers of public transit products and services and to the transit agencies that purchase those products and services by ensuring they meet specific performance criteria and address interoperability and safety.

Previous standards projects assessed gaps in standards, identified areas where standards were needed, and provided support to develop voluntary standards for bus and rail safety, zero emission vehicles and charging infrastructure, facility maintenance, training, operator safety, crashworthiness, and other important topics. Along with the innovations and emerging technologies, the previous work provides a foundation and need for exploring new standards or modification of existing standards. The main goal of this program is to identify industry needs for standards and develop voluntary standards in one or more areas.

The selected recipient will perform an industry standards assessment and develop a priority list of standards that require immediate action. Upon direction from FTA, the recipient will develop or modify voluntary standards, best practices, guidance, and tools to help public transit agencies adopt those standards. Standards development must directly engage a broad group of transit stakeholders, including Federal, State, local, National, public, nonprofit, academic, and private sector representatives. Eligible standards areas can include, but are not limited to, bus and rail safety, mobility, fare collection, intelligent transportation systems, accessibility, equitable service standards, procurement, security, resiliency, asset management to maintain a state of good repair, operations, maintenance, zero emission vehicles, charging systems, maintenance facilities, bus workstations, traveler information, interoperable data standards, vehicle propulsion, emergency response communications, and vehicle electronics. FTA will create an internal FTA Standards Working Group (SWG), which will work with the selected applicant, its industry partners, working groups, and standards development organizations in the assessment, review, prioritization, and selection of transit standards to be developed or modified. One applicant will be competitively selected based on the criteria outlined in this NOFO.

Key tasks for this NOFO include:

• Standards Assessment: Collect and analyze industry data to assess industry needs for areas of new standards development or modification of existing standards. This can include industry scans, listening sessions or surveys, review of current transit literature, and review of prior FTA standards development reports which can be found at: https://www.transit.dot.gov/research-innovation/fta-reports-and-publications;

• Propose Areas for Standards Development: Based on the results of the industry scan, identify potential areas for new standards development or modification of existing standards;

• Vet Proposed Standards Areas: Gather feedback from a broad set of public transit stakeholders on proposed standards areas—ensure there is alignment of industry standards needs and solutions with FTA priorities;

• Prioritize Standards with FTA: Engage with FTA's SWG in the prioritization and selection of standards. For all proposed standards, the recipient should ensure each proposed standards area has expected outcomes and impacts for how the standard will improve public transportation. FTA's SWG will then conduct a gate review, which involves FTA reviewing and approving proposed standards activities. Proposed standards activities may include the recipient: (1) presenting the results of industry scans and industry feedback to FTA; (2) noting the value/need for certain standards or standards related documents/tools; (3) recommending ways to measure the utility of a proposed action(s); and (4) any other activity that provides FTA with enough information to approve and prioritize the work of this program. FTA's gate review will assign priorities, review expected outcomes, provide feedback to the applicant, and approve the proposed standards for development.

• Develop Standards and Implementation Resources: Collaborate with transit stakeholders, FTA SWG, and Standards Development Organizations (SDOs) to develop voluntary standards, guidance, best practice documents and tools following gate approval by FTA.

Applicants must clearly describe in the application how they will accomplish the proposed key tasks. Additionally, applicants must describe how they will work with transit industry stakeholders, industry working groups and standards development organizations—including FTA and its standards working group—in assessing and developing standards, best practices, guidance, and tools that improve public transportation.

FTA's role will include the review and approval of proposed standards through its internal FTA Standards Working Group; development of project reports and review of documents; and participation in key decisions, including if there is a need to redirect and reprioritize project activities, goals, and deliverables.

B. Federal Award Information

This notice makes available up to $3,000,000 of FTA Technical Assistance and Workforce Development Program (49 U.S.C. 5314) funds for a cooperative agreement to support the assessment of need and development of voluntary public transportation standards as well as appropriate best practices, guidance, and tools to implement those standards to provide public transportation service effectively and efficiently.

FTA may award additional funds if they are made available to the program prior to the announcement of the project selection. If additional funds are made available during project execution and can be added to the selected project, FTA would require an amendment to the existing award. Only proposals from eligible applicants for eligible activities will be considered for funding. FTA may cap the amount a recipient may receive as part of the selection process.

Pre-award authority is subject to FTA approval and is only available for costs incurred after the announcement of project selections on FTA's website.

Projects under this competition are for standards development efforts and, as such, FTA Circular 6100.1E (available at https://www.fta.dot.gov/regulations-and-guidance/fta-circulars/research-technical-assistance-and-training-program) will apply in administering the program.

An applicant whose proposal is selected for funding will receive a cooperative agreement with FTA, to be administered according to Circular 6100.1E, and as set forth in 31 U.S.C. 6305. FTA will have substantial involvement in the administration of the cooperative agreement.

C. Eligibility Information

1. Eligible Applicants

Eligible applicants under this notice include the following:

(1) Providers of public transportation, including public transportation agencies, State or local government DOTs, and federally recognized Indian tribes;

(2) Private for-profit and not-for-profit organizations, or consultants;

(3) State, city, or local government entities, including multi-jurisdictional partnerships, and organizations such as Metropolitan Planning Organizations;

(4) Other organizations, including research consortia, not-for-profit industry organizations, and institutions of higher education, including large research universities, particularly those with Minority Serving Institution status; or

(5) Standard Development Organizations (SDOs).

On the application form, eligible applicants are strongly encouraged to identify one or more project partners with a substantial interest and involvement in the project activities or objectives to participate in the implementation of the project. If an application that involves such a partnership is selected for funding, the competitive selection process will be deemed to satisfy the requirement for a competitive procurement under 49 U.S.C. 5325(a) for the named entities. Applicants are advised that any changes to the proposed partnership after the award will require FTA written approval and must be consistent with the scope of the approved project. Post-award changes usually will be subject to ordinary procurement standards.

The applicant must be able to carry out the proposed agreement and procurements, if needed, with project partners in compliance with all applicable Federal, State, and local laws.

To be considered eligible, applicants must be able to demonstrate the requisite legal, financial, and technical capabilities to receive and administer Federal funds under this program.

2. Cost Sharing or Matching

The eligible Federal share for the cooperative agreement that will be awarded for this program is 100 percent. No non-Federal cost sharing is required; however, applicants may offer a non-Federal share of costs. Applications that offer a non-Federal share of costs will be given additional consideration. For guidance related to cost sharing, please see FTA Circular 6100.1E.

3. Eligible Projects

This notice solicits applications to support the assessment of need and development of voluntary public transportation standards as well as appropriate best practices, guidance, and tools to implement those standards to provide public transportation service more effectively and efficiently. The eligible areas for standards development include, but are not limited to, bus and rail safety, fare collection, intelligent transportation systems, accessibility, equitable service standards, procurement, security, resiliency, asset management to maintaining a state of good repair, operations, maintenance, zero emission vehicles, charging systems, maintenance facilities, bus workstations, traveler information, interoperable data standards, vehicle propulsion, emergency response communications, and vehicle electronics. One critical component of the project is to engage with FTA's own Standards Working Group (SWG) in the decision and prioritization of standard development activities.

Eligible activities are all activities noted in the required tasks and any other appropriate actions that lead to development of transit standards, best practices, guidance, and tools, including but not limited to:

• industry scans, listening sessions or surveys, case studies, and data collection on industry needs;

• new and emerging technology specifications and standards;

• identification of innovations to provide more effective and efficient systems using public-private partnerships with non-traditional transportation providers;

• industry literature reviews on transit needs and gaps, domestic and international;

• surveys on systems and products in other industries that could be applicable to public transit systems;

• data analytics;

• establishing various use cases for emerging and innovation deployment;

• defining system requirements;

• modeling and simulation;

• development, validation, and verification of the data and specification; and

• development of new standards and standards documents for transit innovations and solutions to share with the transit industry, including transit bus manufacturers.

Standards or standards-related best practices, guidance, and tools developed or modified will be disseminated on a standard development organization website, FTA website, or through public organizations for transit agencies and transit industry for their use. Standards or standards-related best practices, guidance, and tools developed under this program must not negatively impact interoperability, integrability, efficiency, effectiveness, and safety of the transit systems, process, and devices. Further, the recipient should consider how this standard development effort could support the development or use of additional standards, specifications, or protocols as appropriate.

D. Application and Submission Information

1. Address To Request Application

Applications must be accessed and submitted electronically through GRANTS.GOV. General information for submitting applications through GRANTS.GOV can be found at www.transit.dot.gov/howtoapply. A complete proposal submission consists of two forms and their supporting attachments. The Forms are: (1) an SF-424 “Application for Federal Assistance,” and (2) the supplemental form for the Transit Standards Development NOFO. Both forms are downloadable from GRANTS.GOV or the FTA website at https://www.transit.dot.gov/research-innovation/standards-development-program.

2. Content and Form of Application Submission

a. Proposal Submission

A complete proposal submission consists of the two forms (SF-424 and the supplemental form) and their supporting documents. The supporting documents and attachments shall provide a detailed project approach and proposed scope of work.

The supplemental form and supporting documents must be added to the “Attachments” section of the SF-424. The application must include responses to all sections of the SF-424 Application for Federal Assistance and the supplemental form, unless indicated as optional. The information on the supplemental form will be used to determine applicant and project eligibility for the program, and to evaluate the proposal against the selection criteria described in section E of this notice.

FTA will accept only one supplemental form per SF-424 submission. Applicants may attach additional supporting information to the SF-424 submission, including but not limited to a detailed project approach, the project background, a proposed scope of work and major tasks, a proposed timeline, proposed project budgets, technical information and approach, visual aids, excerpts from relevant planning documents, letters of support, or project narratives. Any supporting documentation must be described and referenced by file name in the appropriate response section of the supplemental form, or it may not be reviewed.

Information such as applicant name, Federal amount requested, and local match amount (if match is being proposed), may be requested on both the SF-424 and supplemental form. Applicants must fill in all fields unless stated otherwise on the forms. If information is copied into the supplemental form from another source, applicants should verify that pasted text is fully captured on the supplemental form and has not been truncated by the character limits built into the form. Applicants should use both the “Check Package for Errors” and the “Validate Form” validation buttons on both forms to check all required fields on the forms and ensure that the Federal and local amounts specified are consistent.

b. Application Content

The SF-424 Application for Federal Assistance and the supplemental form will prompt applicants for the required information, including:

1. Applicant name.

2. Unique Entity Identifier (UEI) in https://www.sam.gov. The Federal government stopped using the Data Universal Numbering System (DUNS) number to identify entities as of April 4, 2022.

3. Key contact information (including name, address, email address, and phone).

4. Congressional district(s) where project will take place.

5. Project information (including title, and an executive summary).

6. Project description (including attachments if necessary) of how it will: (a) collect and analyze industry data to assess industry needs for the development of standards; (b) align industry standards needs and solutions with FTA priorities; (c) coordinate with industry stakeholders and working groups; (d) engage with FTA's SWG in the prioritization and selection of standards for short-term and long-term development; and in a potential subsequent phase to (e) collaborate and facilitate with Standard Development Organizations (SDOs) to develop standards, best practices guidance and tools in the short term.

7. A detailed history of current efforts to establish public transportation standards.

8. Information on any project partners, their role, and anticipated contributions.

9. A description of the technical, legal, and financial capacity of the applicant, its key personnel, and any partners.

10. A detailed project budget, specifying Federal and local share when applicable.

11. A detailed project timeline, including key milestones and interim deliverables.

Please refer to section E.1 for additional guidance on information applicants should provide. Applicants may also attach additional supporting information and other materials or information relevant to transit standards development such as letters of support from key stakeholders.

3. Unique Entity Identifier and System for Award Management (SAM)

Each applicant is required to: (1) be registered in SAM before submitting an application; (2) provide a valid unique entity identifier in its application; and (3) maintain an active SAM registration with current information at all times during which the applicant has an active Federal award or an application or plan under consideration by FTA. FTA may not make an award until the applicant has complied with all applicable unique entity identifier and SAM requirements. If an applicant has not fully complied with the requirements by the time FTA is ready to make an award, FTA may determine that the applicant is not qualified to receive an award and use that determination as a basis for making a Federal award to another applicant. These requirements do not apply if the applicant has an exception approved by FTA or the U.S. Office of Management and Budget under 2 CFR 25.110(c) or (d). SAM registration takes approximately 3-5 business days, but FTA recommends allowing ample time, up to several weeks, for completion of all steps. For additional information on obtaining a unique entity identifier, please visit https://www.sam.gov.

4. Submission Dates and Times

Project proposals must be submitted electronically through GRANTS.GOV by 11:59 p.m. Eastern time on January 23, 2023. GRANTS.GOV attaches a time stamp to each application at the time of submission. Proposals submitted after the deadline will only be considered under extraordinary circumstances not under the applicant's control. Mail and fax submissions will not be accepted.

FTA urges applicants to submit applications at least 72 hours prior to the due date to allow time to receive the validation messages and to correct any problems that may have caused a rejection notification. GRANTS.GOV scheduled maintenance and outage times are announced on the GRANTS.GOV website. Deadlines will not be extended due to scheduled website maintenance. Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

Applicants are encouraged to begin the process of registration on the GRANTS.GOV site well in advance of the submission deadline. Registration is a multi-step process, which may take several weeks to complete before an application can be submitted. Registered applicants may still be required to take steps to keep their registration up to date before submissions can be made successfully: (1) registration in SAM is renewed annually, and (2) persons making submissions on behalf of the Authorized Organization Representative (AOR) must be authorized in GRANTS.GOV by the AOR to make submission.

5. Funding Restrictions

Funds available under this NOFO cannot be used to reimburse applicants for otherwise eligible expenses incurred prior to FTA issuing pre-award authority for the selected applicant.

Refer to section C.3., Eligible Projects, for information on activities that are allowable. Allowable direct and indirect expenses must be consistent with the Governmentwide Uniform Administrative Requirements and Cost Principles (2 CFR part 200) and FTA Circular 5010.1E.

6. Other Submission Requirements

Applicants are encouraged to identify scaled funding options in case funding is not available to fund the program at the full requested amount. If an applicant indicates that a project is scalable, the applicant must provide an appropriate minimum funding amount that will fund an eligible project that achieves the objectives of the program and meets all relevant program requirements. The applicant must provide a clear explanation of how the project budget would be affected by a reduced award. FTA may award a lesser amount regardless of whether a scalable option is provided.

All applications must be submitted via the GRANTS.GOV website. FTA does not accept applications on paper, by fax machine, email, or other means. For information on application submission requirements, please see section D.1., Address to Request Application.

E. Application Review Information

1. Criteria

Applications will be evaluated on the responses provided in the supplemental form and the attached project summary. Additional information may be provided to support the responses. All additional documentation, including the file names, must be directly referenced on the supplemental form. Applicants must complete the supplemental form and the project attachments.

FTA will evaluate proposals based on the criteria described in this notice.

a. Knowledge of Standards and Standards Development

Applications should provide evidence of applicant's experience developing and disseminating industry standards, particularly for the public transit industry. The proposal should detail the applicant's knowledge of general transit industry standards, general experience and knowledge of transit standards development, including awareness of potential barriers or challenges to standard development and application.

b. Knowledge of Subject Areas, Emerging Needs, and Demands in Transit

Applications should clearly demonstrate applicants' knowledge in a wide range of topics and areas in transit. This may include understanding of industry safety, mobility, and operation needs; accessibility and usability of systems to comply with the Americans with Disabilities Act and Title VI of the Civil Rights Act; process improvement in training, maintenance, and procurement; or work experience or familiarity of new and emerging technologies such as low and no emission vehicles, systems, and devices, including battery electric, fuel cell technologies and automation.

c. Key Personnel Experience and Organizational Capacity

Applications should note the individuals who will be involved in the project and how the applicant will ensure they will have enough time and expertise to carry out project objectives to assess data, coordinate with stakeholders, and develop standards in the program duration of four years. Additionally, applicants should discuss proposed personnel's successful completion of similar or relevant projects, case studies, references, etc.

d. Project Approach

Applications will be evaluated on an overall project approach, including proposed workplan tasks, schedule, and interim deliverables. In assessing whether the proposed implementation plans are reasonable and complete, FTA will review the proposed project work plan, including all necessary milestones and the overall project timeline. Applicants must demonstrate their ability to enter into a cooperative agreement in FTA's Transit Award Management System (TrAMS) and begin project activities within 45 days if selected for award. FTA uses the TrAMS system for cooperative agreement awards.

e. Technical, Legal, and Financial Capacity

The applicant must demonstrate the financial and organizational capacity and managerial experience to successfully oversee and implement this project. FTA may review relevant oversight assessments and records to determine whether there are any outstanding legal, technical, or financial issues with the applicant that would affect the outcome of the proposed project. Applicants with outstanding legal, technical, or financial compliance issues from an FTA compliance review or Federal Transit grant-related Single Audit finding must explain how corrective actions will mitigate negative impacts on the proposed project.

For applications that include named project partners, FTA will also consider the technical, legal, and financial capacity of the proposed partners.

2. Review and Selection Process

The competitive application review process consists of an initial screen for eligibility followed by a two-phase review process: a technical review and a senior leadership review. An FTA technical evaluation committee will evaluate proposals based on the published evaluation criteria and a rating guidance specific to this NOFO. Members of the technical evaluation committee may request additional information from applicants, if necessary. The second phase is a senior leadership review. Based on the review of the technical evaluation committee, the FTA Administrator will determine the final selection for project funding.

3. Performance and Integrity

Prior to making an award, FTA is required to review and consider any information about the applicant that is in the Federal Awardee Performance and Integrity Information System (FAPIIS) accessible through UEI (SAM). An applicant may review and comment on any information about itself that a Federal awarding agency previously entered. FTA will consider any comments by the applicant, in addition to the other information in the designated integrity and performance system, in making a judgment about the applicant's integrity, business ethics, and record of performance under Federal awards when completing the review of risk posed by applicants as described in the Office of Management and Budget's Uniform Requirements for Federal Awards (2 CFR 200.206).

F. Federal Award Administration Information

1. Federal Award Notices

FTA will announce the final applicant selection on the FTA website. Due to funding limitations, the applicant selected for funding may receive less than the amount originally requested. In this case the applicant must be able to demonstrate that the proposed project is still viable and can be completed with the amount awarded.

2. Administrative and National Policy Requirements

a. Pre-Award Authority

At the time the project selection is announced, FTA may extend pre-award authority for the selected project. There is no blanket pre-award authority for the project before announcement. FTA will issue specific guidance to the recipient regarding pre-award authority at the time of selection. FTA does not provide pre-award authority for competitive funds until a project is selected, and even then, there are Federal requirements that must be met before costs are incurred. For more information about FTA's policy on pre-award authority, please see the most recent Apportionments, Allocations and Program Information Notice at 87 FR 25362, 25386.

b. Cooperative Agreement Requirements

If selected, the awardee will apply for a cooperative agreement through FTA's Transit Award Management System (TrAMS). The successful applicant must be prepared to submit a complete statement of work and application in TrAMS and begin project activities within 45 days of notification of award. All recipients must follow the requirements of FTA Circular 6100.1E. Technical assistance regarding these requirements is available from FTA.

c. Standard Assurances

If an applicant receives an award, the applicant must assure that it will comply with all applicable Federal statutes, regulations, executive orders, directives, FTA circulars, and other Federal administrative requirements in carrying out any project supported by the FTA award. The applicant acknowledges that it will be under a continuing obligation to comply with the terms and conditions of the agreement issued for its project with FTA. The applicant understands that Federal laws, regulations, policies, and administrative practices might be modified from time to time and may affect the implementation of the project. The most recent Federal requirements will apply to the project unless FTA issues a written determination otherwise. The applicant must submit the most recent FTA Certifications and Assurances before receiving an award if it does not have current certifications on file.

d. Data Access and Data Sharing

Recipients, including a recipient that is an institution of higher education, will be subject to the restriction on publishing subject data contained in section 18(b) of the latest version of FTA's master agreement available on FTA's website at https://www.transit.dot.gov/funding/grantee-resources/sample-fta-agreements/fta-grant-agreements. A recipient must receive written approval from FTA prior to publishing or presenting subject data in any form. FTA must approve the standards, best practices, guidance, or tools developed under this NOFO before that information can be published. A recipient should consult with its FTA Program Manager prior to accepting an award to discuss any plan for external communications about the project. FTA seeks to improve public transportation for America's communities by sharing project data and information collected or developed through its research with the public. This allows research organizations, transit agencies, and other stakeholders to learn from and expand upon the insights developed from FTA-funded research. Any standards, guidance, tools, or software developed as a part of this solicitation will be evaluated by FTA for the potential to be shared for use by public transportation agencies and others.

3. Reporting

Post-award reporting requirements include the electronic submission of Federal Financial Reports and Milestone Progress Reports in FTA's electronic grants management system.

Applicants should include any goals, targets, and indicators referenced in their application in the Executive Summary of the TrAMS application.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this Notice, the recipient must comply with the Recipient Integrity and Performance Matters reporting requirements described in appendix XII to 2 CFR part 200.

G. Federal Awarding Agency Contacts

For further information concerning this notice, please contact Raj Wagley, in the FTA Office of Infrastructure, Safety and Asset Innovation, by email at raj.wagley@dot.gov. A TDD is available for individuals who are deaf or hard of hearing at 800-877-8339. In addition, FTA will post answers to questions and requests for clarifications on FTA's website at https://www.transit.dot.gov/research-innovation/standards-development-program. To ensure applicants receive accurate information about eligibility or the program, applicants are encouraged to contact FTA directly with questions, rather than through intermediaries or third parties. FTA staff may also conduct briefings on the competitive applications selection and award process upon request.

For issues with GRANTS.GOV, please contact GRANTS.GOV by phone at 1-800-518-4726 or by email at support@grants.gov.

H. Other Information

This program is not subject to Executive Order 12372, “Intergovernmental Review of Federal Programs.”

Nuria I. Fernandez,
Administrator.

[FR Doc. 2022-25408 Filed 11-21-22; 8:45 am]

BILLING CODE 4910-57-P